DEPARTMENT OF TRANSPORTATION

Federal Transit Administration

Announcement of Charter Renewal of the Transit Advisory Committee for Safety (TRACS)

AGENCY: Federal Transit Administration, DOT.

ACTION: Notice of charter renewal.

SUMMARY: The Federal Transit Administration (FTA) announces the charter renewal of the Transit Advisory Committee for Safety (TRACS). TRACS is a Federal Advisory Committee established by the U.S. Secretary of Transportation (the Secretary) in accordance with the Federal Advisory Committee Act to provide information, advice, and recommendations to the Secretary and the Federal Transit Administrator on matters relating to the safety of public transportation systems. This charter will be effective for two years from the date it is filed with Congress.

FOR FURTHER INFORMATION CONTACT: Thomas Littleton, TRACS Designated Federal Officer, Associate Administrator, FTA Office of Transit Safety and Oversight, 1200 New Jersey Avenue SE., Washington, DC 20590, (202) 366-9239; or Bridget Zamperini, FTA Office of Transit Safety and Oversight, 1200 New Jersey Avenue SE., 4th Floor, East (E45-310), Washington, DC 20590, (202) 366-0306.

SUPPLEMENTARY INFORMATION: This notice is provided in accordance with the Federal Advisory Committee Act (Pub. L. 92-463, 5 U.S.C. App. 2). As noted above, TRACS is a Federal Advisory Committee established to provide information, advice, and recommendations to the Secretary and the Administrator of the Federal Transit Administration on matters relating to the safety of public transportation systems. Please see the TRACS Web site for additional information at http://www.fta.dot.gov/about/13099.html.

Therese W. McMillan,
Acting Administrator.

[FR Doc. 2016-03538 Filed 2-19-16; 8:45 am]

BILLING CODE P